DEPARTMENT OF THE INTERIOR

Bureau of Land Management

[L19900000.PO0000.LLHQ320.22X; OMB Control No. 1004-0121]

Agency Information Collection Activities; Leasing of Solid Minerals Other Than Coal and Oil Shale (43 CFR 3500-3590)

AGENCY: Bureau of Land Management, Interior.

ACTION: Notice of information collection; request for comment.

SUMMARY: In accordance with the Paperwork Reduction Act of 1995 (PRA), the Bureau of Land Management (BLM) proposes to renew an information collection.

DATES: Interested persons are invited to submit comments on or before August 8, 2022.

ADDRESSES: Written comments and recommendations for this information collection request (ICR) should be sent within 30 days of publication of this notice to www.reginfo.gov/public/do/PRAMain. Find this particular information collection by selecting “Currently under 30-day Review—Open for Public Comments” or by using the search function.

FOR FURTHER INFORMATION CONTACT: To request additional information about this Information Collection Request (ICR), contact Elaine Guenaga by email at eguenaga@blm.gov, or by telephone at 775-276-0287. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA (44 U.S.C. 3501 et seq.) and 5 CFR 1320.8(d)(1), we invite the public and other Federal agencies to comment on new, proposed, revised and continuing collections of information. This helps the BLM assess impacts of its information collection requirements and minimize the public's reporting burden. It also helps the public understand BLM information collection requirements and ensure requested data are provided in the desired format.

A Federal Register notice with a 60-day public comment period soliciting comments on this collection of information was published on February 18, 2022 (87 FR 9375). No comments were received.

As part of our continuing effort to reduce paperwork and respondent burdens, we are again inviting the public and other Federal agencies to comment on the proposed ICR described below. The BLM is especially interested in public comment addressing the following:

(1) Whether the collection of information is necessary for the proper performance of the functions of the agency, including whether the information will have practical utility.

(2) The accuracy of our estimate of the burden for this collection of information, including the validity of the methodology and assumptions used.

(3) Ways to enhance the quality, utility, and clarity of the information to be collected; and

(4) How might the agency minimize the burden of the collection of information on those who are to respond, including the use of appropriate automated, electronic, mechanical, or other technological collection techniques or other forms of information technology, e.g., permitting electronic submission of response.

Comments submitted in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The BLM seeks to renew the Control Number (1004-0121) pertaining to the leasing of solid minerals other than coal and oil shale other than coal and oil shale on Federal land, and the development of those lease. The BLM's regulations at 43 CFR part 3500 apply to certain types of leasable minerals (i.e., solid minerals other than coal and oil shale), but not to Indian lands or minerals except where expressly noted. The regulations at 43 CFR part 3580 apply to gold, silver, and quicksilver in confirmed private land grants, and to leasable minerals in specified locations. The information collections contained in 43 CFR part 3590 are necessary to enable the BLM to fulfill its statutory responsibilities under certain Federal mineral leasing laws and BLM's regulations at 43 CFR part 3500 and serve to help the BLM to govern the leasing of minerals other than coal and oil shale on Federal land, and the development of those leases. Accordingly, the respondents affected by this information collection request are those who desire to obtain lease for Federal minerals other than coal and oil shale, and operators of such leases. The regulations at 43 CFR part 3590 apply to operations for discovery, testing, development, mining, reclamation, and processing. This OMB Control Number is scheduled to expire on October 31, 2022. The BLM is requesting that OMB renew this OMB Control Number for an additional three years.

Title of Collection: Leasing of Solid Minerals Other Than Coal and Oil Shale (43 CFR 3500-3590).

OMB Control Number: 1004-0121.

Form Numbers: BLM Form 3504-001; BLM Form 3504-003; BLM Form 3504-004; BLM Form 3510-001; BLM Form 3510-002; and BLM Form 3520-007.

Type of Review: Extension of a currently approved collection.

Respondents/Affected Public: Holders of Federal leases of solid minerals other than coal and oil shale.

Total Estimated Number of Annual Respondents: 507.

Total Estimated Number of Annual Responses: 507.

Estimated Completion Time per Response: Varies from 1 hour to 400 hours, depending on activity.

Total Estimated Number of Annual Burden Hours: 27,296.

Respondent's Obligation: Required to obtain or retain a benefit.

Frequency of Collection: On occasion.

Total Estimated Annual Nonhour Burden Cost: $2,051,105.

An agency may not conduct or sponsor and, notwithstanding any other provision of law, a person is not required to respond to a collection of information unless it displays a currently valid OMB Control Number.

The authority for this action is the PRA of 1995 (44 U.S.C. 3501 et seq.).

Darrin King,
Information Collection Clearance Officer.

[FR Doc. 2022-14515 Filed 7-7-22; 8:45 am]

BILLING CODE 4310-84-P